DEPARTMENT OF JUSTICE

Antitrust Division

Notice Pursuant to the National Cooperative Research and Production Act of 1993—Z-Wave Alliance, Inc.

Notice is hereby given that, on August 28, 2025, pursuant to section 6(a) of the National Cooperative Research and Production Act of 1993, 15 U.S.C. 4301 et seq. (the “Act”), Z-Wave Alliance, Inc. (the “Joint Venture”) filed written notifications simultaneously with the Attorney General and the Federal Trade Commission disclosing changes in its membership. The notifications were filed for the purpose of extending the Act's provisions limiting the recovery of antitrust plaintiffs to actual damages under specified circumstances.

Specifically, Home Automation Headquarters, Santa Clarita, CA; AI Home Safety LLC, Denver, CO; and Fantem, Shenzhen City, PEOPLE'S REPUBLIC OF CHINA have been added as parties to this venture.

Also, Keaton Chia (University of California, San Diego (Kleissl Lab)), La Jolla, CA; Sensative AB, Lund, KINGDOM OF SWEDEN; Shenzhen Sunricher Technology Limited, Shenzhen, PEOPLE'S REPUBLIC OF CHINA; Syslink Technology Co., Ltd., Bangkok, KINGDOM OF THAILAND; homee GmbH, Berlin, FEDERAL REPUBLIC OF GERMANY; Go4Panda d.o.o., Novo Mesto, REPUBLIC OF SLOVENIA; and B-Smartfoils, Rauenberg, FEDERAL REPUBLIC OF GERMANY have withdrawn as parties to this venture.

No other changes have been made in either the membership or the planned activity of the venture. Membership in this venture remains open, and the Joint Venture intends to file additional written notifications disclosing all changes in membership.

On November 19, 2020, the Joint Venture filed its original notification pursuant to section 6(a) of the Act. The Department of Justice published a notice in the Federal Register pursuant to section 6(b) of the Act on December 1, 2020 (85 FR 77241).

The last notification was filed with the Department on June 18, 2025. A notice was published in the Federal Register pursuant to section 6(b) of the Act on August 13, 2025 (90 FR 38998).

Suzanne Morris,
Deputy Director Civil Enforcement Operations, Antitrust Division.

[FR Doc. 2025-19312 Filed 10-1-25; 8:45 am]

BILLING CODE 4410-11-P